DEPARTMENT OF TRANSPORTATION

Federal Aviation Administration

[Docket No: FAA-2024-1029]

Notice of Funding Opportunity for FAA's Office of Airports FY 2023 Supplemental Discretionary Grants

AGENCY: Federal Aviation Administration, Office of Airports, U.S. Department of Transportation.

ACTION: Notice of funding opportunity.

SUMMARY: The U.S. Department of Transportation (DOT) Federal Aviation Administration (FAA) announces the opportunity to apply for approximately $269 million in FY 2023 Supplemental Discretionary Grants. This is a competitive grant program under the project grant authority for Airport Improvement Program (AIP). The AIP objective is to assist airport owners and operators (sponsors) that are eligible to accept grants in the development and improvement of a nationwide airport system. FAA will implement the FY 2023 Supplemental Discretionary grants consistent with AIP sponsor and project eligibility. In addition, FY 2023 Supplemental Discretionary grants will align with DOT's Strategic Framework FY 2022-2026 at https://www.transportation.gov/administrations/office-policy/fy2022-2026-strategic-framework.

DATES: Airport sponsors must submit an application that meets the requirements of this NOFO no later than 5:00 p.m. Eastern time, May 2, 2024.

ADDRESSES: Submit applications electronically at 9-ARP-AIPSupp@FAA.gov.

FOR FURTHER INFORMATION CONTACT: David F. Cushing, Manager, Airports Financial Assistance Division, APP-500 at (202) 267-8827.

SUPPLEMENTARY INFORMATION:

A. Program Description

This FY 2023 Supplemental Discretionary Grants Notice of Funding Opportunity (NOFO) announces a competitive grant program that falls under the project grant authority for the AIP in 49 U.S.C. 47104. The Consolidated Appropriations Act, 2023 (Pub. L. 117-328) (Appropriations Act), provides funding, to remain available through September 30, 2025, for the Secretary of Transportation to issue grants for projects as authorized by subchapter 1 of chapter 471 and subchapter 1 of chapter 475 of title 49 of the U.S.C., for both specific Congressionally Directed grants that are not subject to this NOFO, and approximately $269 million in FY2023 Supplemental Discretionary Grants, subject to the availability of funds, that are the subject of this NOFO. As outlined in 2 Code of Federal Regulations (CFR) part 200—Uniform Administrative Requirements, Cost Principles, and Audit Requirements for Federal Awards, the AIP Federal Assistance Listings number is 20.106.

FAA seeks to fund projects that advance the Departmental priorities of safety, equity, climate and sustainability, and workforce development, job quality, and wealth creation as described in Section E and the 2022-2026 USDOT Strategic Plan, in the 2022-2026 USDOT Research, Development and Technology Strategic Plan, and in executive orders, including those listed under Section F.2.

B. Federal Award Information

B.1 Total Funding

This NOFO announces approximately $268,707,225, subject to the availability of funds, for FY 2023 Supplemental Discretionary Grants to remain available through September 30, 2025. Of this total, $235,677,112 will be made available to medium and large hub airports and $33,030,113 to small hub, nonhub, and nonprimary airports.

B.2 Expected Award Amount

From FY 2018 through FY 2022, more than 625 supplemental discretionary grants were awarded, totaling approximately $2.5 billion. The supplemental discretionary grants ranged in amount from $142,000 to $29,115,000. The average supplemental discretionary grant has been approximately $4,800,000.

Large and Medium Hub Airports: In FY 2022, 34 awards, averaging $5.8 million were awarded to large and medium hub airports. In FY 2023, the total amount available for this category is $235,677,112 million. Applicants should craft project applications to accept grants to fulfill a useful unit of work that achieve a priority purpose, or purposes, expressed in Sections A and E of no more than $20 million federal share.

Small Hub, Nonhub, and Nonprimary Airports: In FY 2022, 45 awards, averaging $1.5 million were awarded to small hub, nonhub, and nonprimary airports. For FY2023, the total amount available for this category is $33,030,113. Applicants should craft project applications to accept grants to fulfill a useful unit of work that achieve a priority purpose, or purposes expressed in Sections A and E of no more than $1.5 million federal share.

In consideration of the limited funding, project applications should consider projects that may have multiple useful units of work scoped with bid alternates.

B.3 Number of Awards

FAA anticipates at least 50 awards to be made from this NOFO.

B.4 Expected Award Funding and Anticipated Dates

Anticipated Award Date: within 90 days after the application deadline.

Anticipated Funding/Obligation Dates: July 2024 through May 2025.

B.5 Period of Performance

The period of performance shall not extend beyond four (4) years after the applicable Anticipated Award/Obligation Dates from Section B.4.

B.6 Partial Awards

FAA reserves the right to fund an application at less than the total amount requested to cover only a portion of the proposed activity indicated in the original proposal, as long as the activity is a useful unit of work. However, a partial award does not guarantee future funding for completion of all activities within the project. If project proposals are offered as a non-severable package of work, the applicant should specify this in the application. Applicants are encouraged to propose projects that are scalable and identify scaled funding options in case insufficient funding is available to fund an applicant's project or a bundled project at the full requested amount.

C. Eligibility Information

C.1 Eligible Applicants

Eligible applicants are public agencies owning or leasing a public-use airport in the NPIAS; private entities owning a public-use NPIAS airport; States acting as a sponsor for one or more specific NPIAS airports in the State; Indian Tribes or pueblos owning or leasing a public-use NPIAS airport; the Secretary of the Interior for Midway Island Airport; the Republic of the Marshall Islands; the Federated States of Micronesia; the Republic of Palau; and other applicants as outlined in table 2-1 of the AIP Handbook, FAA Order 5100.38, February 26, 2019 available at: https://www.faa.gov/airports/aip/aip_handbook/.

C.2 Cost Sharing and Matching

Grants have Federal shares ranging from 70 percent to 95 percent under 49 U.S.C. 47109. The Federal share percentage is based on the airport size and type of project. Federal share by airport and project type can be found in chapter 4 of the AIP Handbook, FAA Order 5100.38D, February 26, 2019.

C.3 Project Eligibility

Every applicant must be able to demonstrate that its proposed project is able to meet all grant requirements, including appropriate procurement of services such as construction bids, and be able to execute a grant no later than May 31, 2025.

Subject to funding availability, FAA will consider applications for AIP-eligible projects under the Priority Project Categories in section (C.3.a). Funding for projects under the general AIP eligibility will be considered after funding decisions for the Priority Projects Categories have been determined.

However, funds are limited, especially with regard to small hub, nonhub, and nonprimary airports.

C.3.a Priority Project Categories

The Appropriations Act focuses on specific areas of AIP eligibility consistent with Administration priorities. These are airfield operational resiliency (AOR); sustainable aviation fuel (SAF); and emissions and energy improvements (EE).

C.3.a.1 Airfield Operational Resiliency (AOR)

Airfield operational resiliency and the safety of airfield operations are high priorities for FAA and the Department. Projects to improve the resiliency of at-risk infrastructure must preserve or advance airfield safety standards or advance the safety of airfield operations. Projects that advance the operational resiliency of the airfield, necessarily strive to do so under safe operating conditions. The Appropriations Act focuses on airfield operational resiliency, stating that FAA may make supplemental discretionary grants for airport development improvements to primary runways, taxiways, and aprons necessary at primary airports to increase operational resiliency for the purpose of resuming commercial service flight operations following an earthquake, flooding, high water, hurricane, storm surge, tidal wave, tornado, tsunami, wind-driven water, or winter storms.

AIP traditionally focuses on airfield resiliency including safe operations in varied operating circumstances. Also, AIP funds airfield resiliency in the form of pavement durability and weight-bearing capacity. Intact airfield pavement is a significant factor in operational safety. Airfield drainage and projects that prevent accumulations of precipitation or inundation of the airfield are eligible projects for AIP funding. Airfield Operational Resiliency also means the resiliency of airfield signage and markings, as well as the reliability and effectiveness of airfield lighting infrastructure.

C.3.a.2 Sustainable Aviation Fuel (SAF)

FAA may make grants to primary airports for airport-owned infrastructure required for the on-airport distribution, blending, or storage of sustainable aviation fuels that achieve at least a 50 percent reduction in lifecycle greenhouse gas emissions, using a methodology determined by the Secretary of Transportation. Projects may include, but are not limited to, on-airport construction or expansion of pipelines, rail lines and spurs, loading and off-loading facilities, blending facilities, and storage tanks.

C.3.a.3 Emissions and Energy (EE)

i. Expanded Emissions Eligibility: As required in the Appropriations Act, FAA has set aside no less than $25 million for grants for work necessary at commercial service airports to construct or modify airport facilities to provide low-emission fuel systems, gate electrification, other related air quality improvements, acquisition of airport-owned vehicles or ground support equipment with low emission technology, or the purchase and installation of chargers to support such airport-owned vehicles and ground support equipment. Qualifying projects may include, but are not limited to, those described under the Voluntary Airport Low Emissions (VALE) program, without requiring the airport to be in a non-attainment or maintenance area, and the Zero Emissions Vehicles (ZEV) program.

For information on VALE see https://www.faa.gov/airports/environmental/vale/.

ii. Energy Efficiency of Airport Power Sources: Energy Efficiency of Airport Power Sources provides grant funding for energy assessments/audits and implementation of energy reduction measures to reduce energy consumption across airport operations. In order to be eligible for implementation of energy consumption reduction projects, an energy assessment/audit must have been completed. Requirements for an acceptable energy assessment/audit and project eligibility are based on Energy Efficiency of Airport Power Sources eligibility under 49 U.S.C. 47140(a)(b), and details are contained in chapter 6, section 7 of the AIP Handbook.

iii. Energy Supply, Redundancy and Microgrids: Energy Supply, Redundancy and Microgrids provides grant funding that can be used to improve the reliability and efficiency of the airport power supply. Eligibility is based on Energy Supply, Redundancy and Microgrids projects eligibility under 49 U.S.C. 47102(3)(P). Additional information is available at https://www.faa.gov/airports/environmental/.

iv. Airport Sustainability Planning: Airport Sustainability Planning provides grant funding for eligible airports to develop comprehensive sustainability plans. Based on the authority under 49 U.S.C. 47102(5), such plans may address a broad array of environmental and energy planning activities, green construction and operations, energy efficiency, and renewable energy. Consistent with E.O. 14008, a sustainability plan also may address climate resiliency. Additional information is available at https://www.faa.gov/airports/environmental/sustainability/.

v. Zero Emissions Vehicle: These grants provide funding to acquire zero-emissions vehicles and associated infrastructure at any primary or nonprimary airport eligible to receive AIP grants. See https://www.faa.gov/airports/environmental/zero_emissions_vehicles/.

vi. Reducing Impacts of Lead Emissions from Aviation Fuel: Grants are available for planning for unleaded aviation fuel infrastructure, and to plan for and construct run-up locations to reduce community exposure to emissions from leaded aviation fuel.

vii. Other AIP eligible projects that increase energy efficiency: Grants for projects that are otherwise eligible for AIP may be also eligible under this Priority Projects Category to the extent that implementation of the funded project reduces emissions or increase energy efficiency.

D. Application and Submission Information

D.1 Address To Request Application Package

Required application materials, including the Application for Federal Assistance (Form SF-424), are available at https://www.faa.gov/airports/aip/aip_supplemental_appropriation.

For specific technical questions about general AIP project eligibility or Airfield Operational Resiliency (AOR) project eligibility, please contact the appropriate Regional Office (RO) or Airports District Office (ADO). RO/ADO contact information is available at https://www.faa.gov/about/office_org/headquarters_offices/arp/offices/regional_offices.

For specific technical questions regarding Sustainable Aviation Fuel (SAF) projects and Emissions and Energy (EE) projects, please see section G for contact information.

D.2 Content and Form of Application Submission

Applicants are required to submit an application specifically referencing all requirements in this NOFO to be considered for supplemental discretionary funding, even if the applicant previously applied for funding.

All applications must contain the SF-424 identified in Section D.2.a. Applications should also include a project narrative with financial plan describing the project as explained in Section D.2.b. The SF-424 and the project narrative with financial plan should be in separate files in the same email submission.

Applicants are required to submit applications electronically to the following mailbox: 9-ARP-AIPSupp@FAA.gov. The deadline for submittal is May 2, 2024, at 5 p.m. Eastern time. The applicant will receive a one-time notification of receipt of the application materials. Subsequent applications or materials will not receive notification. No information regarding the status of the application will be provided until all reviews are complete.

Airports covered under FAA's State Block Grant Program should coordinate with their associated state agencies and must submit project applications via the procedures noted herein to the specified mailbox.

The applicant assumes responsibility for submitting complete applications on the required form to the identified mailbox. FAA assumes no responsibility for misdirected, incomplete, incorrect, or late applications.

Applicants are required to submit applications with the following information:

D.2.a Completed and Signed SF-424

The required form for this NOFO is located at https://www.faa.gov/airports/resources/forms/media/SF424. All other versions are obsolete, and their use may remove your application from consideration. This version of the SF-424 is a fillable.pdf. Please do not print and scan the form, nor imbed the form in your application documents or Project Narrative. Submit it by email as the completed fillable form. The SF-424 must be a stand-alone document. It must not contain a title page, nor be imbedded in any other document. All information required on the SF-424 must be completed as applicable. The following information must be included, or your application may be disqualified:

a. A valid and active UEI in Box 8c. The UEI must match the Legal Entity Name in Box 8a. DUNs number is no longer permitted on Federal award applications.

b. Funding Opportunity Number (FON) in Box 12. The FON for this NOFO is FAA-ARP-AIP-G-24-001.

c. Brief description of the project in Box 15, including the Priority Project Category identified in Section C.3. Please use “AOR” for Airfield Operational Resiliency; “SAF” for Sustainable Aviation Fuel; and “EE” for all Emissions and Energy projects. Use “G” for general AIP eligibility.

d. Proposed Start Date in Box 17 a. Project should go under grant no later than May 31, 2025.

e. Federal Funding Amount Requested from the FY 2023 Supplemental Discretionary Grants in Box 18a.

f. The file name for each SF-424 will use the following format for submission:

[LOCID] SF-424 FY 2023 Supplemental Discretionary Grants [Special Project Category abbreviation—G, AOR, SAF or EE]. Example: XXX SF-424 FY 2023 Supplemental Discretionary Grants SAF.

D.2.b Project Narrative With Financial Plan

Each project application should include a single project narrative with financial plan not to exceed 20 pages contained in its own file in the emailed application submission.

Each project narrative should include a schedule demonstrating that the airport sponsor can execute a grant agreement no later than May 31, 2025, meeting milestones in calendar year 2024. Calendar year 2024 milestones include, but are not limited to, progress of environmental reviews, airspace review and approvals, and depiction of the project on the Airport Layout Plan. The project narrative with financial plan should describe the project purpose, specific location on the airport, project scope, and how the project satisfies Administration priorities or safety, climate change and sustainability, or equity and workforce development, as summarized in Section A.

Each application must include a financial plan that ensures that the airport sponsor executes a grant by May 31, 2025, and that the airport sponsor demonstrates that the project is ready to begin within the timeframe provided and will be completed within the period of performance indicated in section B.5. The financial plan should show how the project will become operational in a timely manner. Finally, the airport sponsor should include information on its financing to complete the project and put it in use, including a plan to use FAA formula funding associated with the subject airport, either upon the subject project or another eligible project of similar or higher utility or National Priority Rating (NPR), as such term is defined in FAA Order 5090.5, Formulation of the NPIAS and ACIP.

The grant application financial plan may be based on estimates. However, FAA may request additional information, including bids or firm cost determinations, substantiation of greenhouse gas or emissions reductions, and associated requirements.

In addition, to enhance competitiveness of the application, each project narrative with financial plan should include the elements described in D.3.

D.3 All Applications

Project narratives should contain enough information about the project to establish basic eligibility, including expanded eligibility in the Priority Project Categories. Include enough information about the project to identify precise locations, purpose of the project, and project scope to calculate an NPR, which FAA will consider in prioritizing projects.

Each Priority Project Category application description should also include information to support the application, such as listed under D.3. and other relevant information to present the character of the project and show how it satisfies the criteria under section E.1.

D.3.a Airfield Operational Resiliency (AOR)

Applications for airfield operational resilience, including the preservation or advancement of safety standards or the advancement of the safety of airfield operations, including the operational resiliency of airfield pavement, marking, signage and lighting must describe:

i. the conditions, including natural disaster, from which the proposed project would provide prevention, resiliency, or recovery;

ii. whether the project pursues prevention of the occurrence (such as levees) or resistance to damage (such as timely appropriate pavement treatments or passive airfield drainage); or recovery from severe impacts (such as stormwater runoff management or snow removal);

iii. the likelihood of such impacts occurring in relation to the expected useful life of the proposed development improvements; and

iv. any specific reasons why the subject airfield is particularly vulnerable to negative impacts, including those from natural disaster, and the scale of that negative impact to the aviation system.

D.3.b Sustainable Aviation Fuels (SAF)

Applications for Sustainable Aviation Fuels (SAF) proposals, describe clearly how the project will support the implementation of SAF for distribution into aircraft at the airport. This description should include:

i. A project description consistent with improvements including, but not limited to, on-airport construction or expansion of pipelines, rail lines and spurs, loading and off-loading facilities, blending facilities and storage tanks;

ii. The absolute capacity of the facility in gallons to deliver SAF into-plane;

iii. How the scope of the proposed facility is reasonably consistent with the potential and operable market for SAF at the airport;

iv. How the sponsor intends to provide non-discriminatory, non-exclusive access to SAF for aeronautical users of the airport; and the sponsor's plan for covering the operational costs of the facility through reasonable rates and charges;

v. Certification that the project supports the transition to sustainable aviation fuels that achieve at least a 50 percent reduction in lifecycle greenhouse gas emissions. SAF production and lifecycle greenhouse gas emissions are described in the Notice of Funding Opportunity for the Fueling Aviation's Sustainable Transition Grant Program available at https://faa.gov/general/fueling-aviations-sustainable-transition-fast-grants. Include a statement of how the project prevents degradation to the lifecycle carbon benefits.

D.3.c Emissions and Energy (EE)

Applications for projects focusing on the Expanded Emissions Eligibility; Energy Efficiency of Airport Power Sources; Energy Supply, Redundancy and Microgrids; Airport Sustainability Planning and ZEV for all airports, as described in C.3.a.3 will provide:

i. A cost estimate;

ii. For projects that will result in emissions reductions or air quality improvements: (a) the total project cost per tons that the emissions reduction will produce and the types of emissions it will reduce relative to a no-action baseline, including average annual amount and estimated amount over the project lifetime, and (b) a description of the methodology and tool used to calculate the estimated emissions reduction;

iii. An energy assessment or audit that describes the airport's heating and cooling, base load, back-up power, and power for on-road airport vehicles and ground support equipment and identifies the proposed project as a measure to reduce energy consumption for projects that will result in a reduction of airport energy consumption pursuant to the Energy Efficiency of Airport Power Sources Program (see AIP Handbook Chapter 6, section 7);

iv. Other environmental sustainability benefits with regard to energy efficiency, or reliability, such as through incorporation of specific design elements that address resiliency to climate change impacts; and

v. How the project addresses the disproportionate negative environmental impacts of transportation on disadvantaged communities, consistent with environmental justice and civil rights authorities.

D.4 Unique Entity Identifier and System of Award Management (SAM)

Applicants must comply with 2 CFR part 25—Universal Identifier and System for Award Management. All applicants must have a Unique Entity Identifier (UEI) provided by SAM. Additional information about obtaining a UEI and registration procedures may be found at the SAM website (currently at http://www.sam.gov).

Each applicant is required to: (1) be registered in SAM before submitting its application; (2) provide a valid unique entity identifier in its application (which matches the airport sponsor's name on the application); and (3) continue to maintain an active SAM registration with current information at all times during which the applicant has an active Federal award or an application or plan under consideration by FAA. Under FY 2023 Supplemental Discretionary Grants, the UEI and SAM account must belong to the entity that has the legal authority to apply for, receive, and execute these grants.

Once awarded, FAA grant recipient must maintain the currency of its information in SAM until the recipient submits the final financial report required under the grant or receives the final payment, whichever is later. A grant recipient must review and update the information at least annually after the initial registration and more frequently if required by changes in information or another award term.

FAA may not make an award until the applicant has complied with all applicable UEI and SAM requirements. If an applicant has not fully complied with the requirements by the time FAA is ready to make an award, FAA may determine that the applicant is not qualified to receive an award and use that determination as a basis for making a Federal award to another applicant.

Non-Federal entities that have received a Federal award are required to report certain civil, criminal, or administrative proceedings to SAM (currently the Federal Awardee Performance and Integrity Information System (FAPIIS: https://sam.gov/content/fapiis) to ensure registration information is current and complies with Federal requirements. Applicants should refer to 2 CFR 200.113 for more information about this requirement.

D.5 Submission Dates and Times

Airports sponsors must submit an application that meets the requirements of this NOFO no later than 5 p.m. Eastern time on May 2, 2024, to the following mailbox: 9-ARP-AIPSupp@FAA.gov.

Applications may be based on estimates. However, FAA may request additional information, including bids or firm cost determinations, and other associated requirements after the review and selection of awards.

D.6 Intergovernmental Review

Not Applicable.

D.7 Funding Restrictions

Under 49 U.S.C. 47115, projects must meet airport and project eligibility criteria. Eligibility is derived from statute and may include projects to enhance airport safety, capacity, security, and the environment, or any combination of the above. In general, sponsors may receive AIP funds for most airfield capital improvements, and, in specific situations, for terminals, hangars, equipment, and nonaeronautical development. Operational costs—such as salaries, equipment, and supplies—are not eligible for FY 2023 Supplemental Discretionary Grants. Grant funds may not be used to support or oppose union organizing.

Please see below criteria and refer to chapters 3 and 4 of the AIP Handbook for further details on eligibility criteria and funding restrictions. Except where options are specifically noted or where nonmandatory language is used, the procedures and requirements in the AIP Handbook are mandatory. The general requirements for project funding include considerations of: project eligibility; project justification; good title of airport property; an FAA-approved airport layout plan (if applicable); airport-user consultations; complete required environmental reviews; a determination that the grant will yield a usable unit of work; certification that the project specification will meet FAA standards; applicable cost justifications; and a work plan to complete the project without unreasonable delay.

See section C for additional eligibility details for Priority Program Categories as derived from the Appropriations Act and Administration priorities.

Grant Funds, Sources and Uses of Project Funds: Project budgets should show how different funding sources will share in each activity and present those data in dollars and percentages. The budget should identify other Federal funds the applicant is applying for or has been awarded, if any. Funding sources should be grouped into three categories: non-Federal, FY2023 Supplemental Discretionary Grants, and other Federal funding with specific amounts from each funding source, including formula funding under AIP and Airport Infrastructure Grants (AIG).

Sharing of Application Information: FAA may share application information within the Agency, Department, or with other Federal agencies if FAA determines that sharing is relevant to the respective program's objectives.

E. Application Review Information

FAA will implement the FY 2023 Supplemental Discretionary Grants as appropriate and consistent with statutory criteria. These comprise eligibility for airport planning, development, and environmental projects to support aeronautical activity at airports of all sizes across the country. Also, this NOFO supports Administration, DOT, and FAA priorities:

Safety: FAA seeks to fund projects that advance aviation safety standards and the safety of airfield operations;

Climate Resiliency and Sustainability: FAA seeks to fund airport projects that reduce emissions associated with airport operations, increase energy efficiency and support the ability of airports to incorporate sustainable energy sources. FAA seeks to incorporate evidence-based resilience and reliability measures for at-risk infrastructure, including measures to prevent or recover from the impacts of increased climate risks. FAA seeks to reduce the lifecycle greenhouse gas emissions from project materials and airport operations. FAA seeks to avoid adverse environmental impacts to air or water quality, wetlands, and endangered species, and address the disproportionate negative environmental impacts of transportation on disadvantaged communities, consistent with Executive Order 14008, Tackling the Climate Crisis at Home and Abroad (86 FR 7619);

Equity: FAA seeks to fund projects that create proportional impacts to communities in a project area, including reducing negative impacts to disadvantaged communities, and increase equitable access to project benefits, consistent with Executive Order 13985, Advancing Racial Equity and Support for Underserved Communities Through the Federal Government (86 FR 7009); and

Workforce Development, Job Quality, and Wealth Creation: FAA intends to use FY 2023 Supplemental Discretionary Grants to support the creation of good-paying jobs with the free and fair choice to join a union and to support the incorporation of strong labor standards and training and placement programs, especially registered apprenticeships, in project planning stages, and consistent with Executive Order 14025, Worker Organizing and Empowerment (86 FR 22829). FAA also supports wealth creation, consistent with the DOT's Equity Action Plan promoting inclusive economic development and entrepreneurship measures such as the utilization of Disadvantaged Business Enterprises, Minority-owned Businesses, Women-owned Businesses, or 8(a) firms.

E.1 Criteria

Projects are subject to the availability of funds. Project applications are subject to administrative screening.

All applications will be assessed using the following criteria:

E.1.a Initial Screening

i. Projects must meet the eligibility requirements identified in section C.3 of this NOFO, including general AIP eligibility.

ii. The sponsor has sufficient financial resources to meet milestones in 2024 and 2025 and fulfill the purpose of the project described in the project narrative. The project funding plan uses available FAA formula funding, including AIP and AIG funds, not dedicated to another eligible project. All applicants should have a plan to address potential cost overruns as part of an overall funding plan.

iii. Projects should be able to execute a grant agreement for the project no later than May 31, 2025. Certain policy milestones must be met executing a grant agreement. These include depiction of capital improvement projects on the airport's approved ALP (if applicable), a National Environmental Policy Act environmental review determination (if applicable), an energy assessment/audit for construction of energy efficiency projects, and all necessary airspace studies.

iv. The readiness of the project to be completed within a period of performance, indicated in section B.5.

v. FAA will consider the NPR in prioritizing projects.

E.1.b Merit Criteria

i. FAA will consider the degree to which the project preserves or advances airfield safety standards and the safety of airfield operations.

ii. FAA will consider the degree to which the project incorporates evidence-based resilience and reliability measures for at-risk infrastructure, including measures to prevent or recover from the impacts of increased climate risks.

iii. FAA will consider the degree to which the project reduces the lifecycle greenhouse gas emissions from project materials and airport operations, including steps to make SAF available.

iv. FAA will consider the degree to which the project reduces emissions associated with airport operations, increases energy efficiency, and supports the ability to incorporate sustainable energy sources.

v. FAA will consider the degree to which the project avoids adverse environmental impacts to air or water quality, wetlands, and endangered species, and addresses the disproportionate negative environmental impacts of transportation on disadvantaged communities, consistent with Executive Order 14008, Tackling the Climate Crisis at Home and Abroad (86 FR 7619).

vi. FAA will consider the degree to which the project reduces negative impacts to disadvantaged communities, and increases equitable access to project benefits, consistent with Executive Order 13985, Advancing Racial Equity and Support for Underserved Communities Through the Federal Government (86 FR 7009).

vii. FAA will consider the degree to which the project complies with the Department of Transportation's Equity Action Plan through the:

• creation of good-paying, safe jobs with free and fair choice to join a union including through the use of a project labor agreement;

• promotion of investments in high-quality workforce development programs with supportive services to help train, place, and retain people in good-paying jobs or registered apprenticeships. These programs should have a focus on women, people of color, and others that are underrepresented in infrastructure jobs (people with disabilities, people with convictions, etc.);

• adoption of changes to hiring policies and workplace cultures to promote the entry and retention of underrepresented populations; and

• promotion of inclusive economic development and entrepreneurship, such as the utilization of Disadvantaged Business Enterprises, Minority-owned Businesses, Women-owned Businesses, or 8(a) firms.

E.1.c Selection Considerations

i. FAA will consider the degree to which the project enables subsequent projects, such as energy assessments or audits, discussed in C.3.a.3, if applicable.

ii. FAA will consider the degree to which the applicant presents a plan to measure the impacts of the project, including how the project contributes to energy efficiency or emissions improvements or reduction in life-cycle greenhouse gas emissions. These activities may not be eligible for reimbursement.

iii. FAA will consider geographic variety.

iv. FAA will consider projects that take advantage of the flexibility of eligibility in the Appropriations Act that is not available under other FAA grant programs, such as projects in the Airfield Operational Resiliency, Sustainable Aviation Fuel, or Emissions and Energy Priority Project Categories. FAA will consider new or alternative uses of technology or processes in the execution of the project.

v. FAA will consider projects that advance to grant very quickly or have a particular demand for funding in FY 2024.

The review and selection process is described further in section E.2, of this NOFO.

Applicants are encouraged to submit projects that meet as many of the above considerations as possible.

E.1.d Project Prioritization

FAA will prioritize projects that qualify under the Priority Project Categories described in section (C.3.a) and advance the Departmental priorities described in section (A).

E.2 Review and Selection Process

FAA will evaluate how well the projects meet the criteria in E.1, including project eligibility, justification, readiness, and the availability of matching funds.

FAA will also consider how well projects advance the goals of the following Executive Orders, which are incorporated into the criteria under E.1.: Executive Order 13990, “Protecting Public Health and the Environment and Restoring Science to Tackle the Climate Crisis”; Executive Order 13985, “Advancing Racial Equity and Support for Underserved Communities Through the Federal Government”; Executive Order 14008, “Tackling the Climate Crisis at Home and Abroad”; Executive Order 14030, “Climate Related Financial Risk”; and Executive Order 14036, “Promoting Competition in the American Economy.”

Applications are first reviewed for eligibility, certainty, and timeliness of implementation consistent with the requirements of this NOFO and the intent of the specific project category, as described in E.1.a. Applications are then reviewed for how well the proposed project(s) meets the criteria in E.1.b and ranked by program division, field and Regional Office staff. The top projects for each airport category are then evaluated by a National Control Board (NCB), with consideration of the Selection Considerations, or other considerations as they arise in real-time. The NCB has representatives from each Region and Headquarters management and recommends project and funding levels to senior leadership.

E.2.a Administrative Review

FAA will evaluate whether the application meets the requirements specified in section D.2.a, and the request is within stated goals for the airport's hub status.

E.2.b Merit Review

FAA will prioritize funding projects that are complete usable units of work, to include construction of eligible airport development, acquisition and installation of eligible equipment, acquisition and commissioning of eligible rolling stock equipment, procurement of actionable plans, including sustainability plans and energy planning as described in section C.3.

E.2.c Selection Criteria

After completing the merit review, among projects of similar merit, FAA will select applications based on availability of funds by airport type and as described in E.1.c.

E.3 Integrity and Performance Check

Prior to making a Federal award with a total amount of Federal share greater than the simplified acquisition threshold, FAA is required to review and consider any information about the applicant that is in the designated integrity and performance system accessible through SAM (currently FAPIIS) (see 41 U.S.C. 2313). An applicant, at its option, may review information in the designated integrity and performance systems accessible through SAM and comment on any information about itself that a Federal awarding agency previously entered. FAA will consider any comments by the applicant, in addition to the other information in the designated integrity and performance system, in making a judgment about the applicant's integrity, business ethics, and record of performance under Federal awards when completing the review of risk posed by applicants as described in 2 CFR 200.206.

E.4 Anticipated Announcement and Federal Award Dates

FAA intends to release a Notice of Intent to Award FY 2023 Supplemental Discretionary Grants within 90 days of the application deadline.

F. Federal Award Administration Information

F.1 Federal Award Notices

FY 2023 Supplemental Discretionary Grants awards are announced through a Congressional notification process and the Secretary's Notice of Intent to Fund, after which an FAA RO/ADO representative will contact the airport sponsor with further information and instructions. Once all pre-grant actions are complete, FAA RO/ADO will offer the airport sponsor a grant for the announced project. This offer may be provided through postal mail or by electronic means. Once this offer is signed by the airport sponsor, it becomes a grant agreement. Awards made under this program are subject to conditions and assurances in the grant agreement.

F.2 Administrative and National Policy Requirements

Pre-Award Authority: Under 49 U.S.C. 47110(b)(2), all project costs must be incurred after the grant execution date unless specifically permitted under the AIP statutes. Table 3-60 of the AIP Handbook lists the rules regarding when project costs can be incurred in relation to the grant execution date, the type of funding, and the type of project. Certain airport development costs incurred before execution of the grant agreement are allowable, but only if certain conditions under 49 U.S.C. 47110(b)(2)(D) and Table 3-60 of the AIP Handbook are met.

Grant Requirements: All grant recipients are subject to the grant requirements of the AIP, including the grant assurances, found in 49 U.S.C. chapter 471. Grant recipients are subject to requirements in FAA's AIP Grant Agreement for financial assistance awards; the annual certifications and assurances required of applicants; and any additional applicable statutory or regulatory requirements, including nondiscrimination requirements and 2 CFR part 200, Uniform Administrative Requirements, Cost Principles, and Audit Requirements for Federal Awards. Grant requirements include, but are not limited to, approved projects on an airport layout plan, and compliance with Federal civil rights laws, Buy American requirements under 49 U.S.C. 50101, the Department of Transportation's Disadvantaged Business Enterprise (DBE) Program regulations for airports (49 CFR part 23 and 49 CFR part 26), Build America, Buy America requirements in sections 70912(6) and 70914 of Public Law 117-58, the Infrastructure Investment and Jobs Act, and prevailing wage rate requirements under the Davis-Bacon Act, as amended (40 U.S.C. 276a-276a-5, and reenacted at 40 U.S.C. 3141-3144, 3146, and 3147).

Standard Assurances: Each grant recipient must assure that it will comply with all applicable Federal statutes, regulations, executive orders, directives, FAA circulars, and other Federal administrative requirements in carrying out any project supported by an FY 2023 Supplemental Discretionary Grant. The grant recipient must acknowledge that it is under a continuing obligation to comply with the terms and conditions of the grant agreement issued for its project with FAA. The grant recipient understands that Federal laws, regulations, policies, and administrative practices might be modified from time to time and may affect the implementation of the project. The grant recipient must agree that the most recent Federal requirements will apply to the project unless FAA issues a written determination otherwise.

As referenced under Grant Requirements, the grant recipient must submit the certifications at the time of grant application, and assurances must be accepted as part of the grant agreement at the time of accepting a grant offer. Grant recipients must also comply with the requirements of 2 CFR part 200, which “are applicable to all costs related to Federal awards” and which are cited in the grant assurances of the grant agreements. The Airport Sponsor Assurances are available on FAA website at: https://www.faa.gov/airports/aip/grant_assurances.

Critical Infrastructure Security and Resilience: It is the policy of the United States to strengthen the security and resilience of its critical infrastructure against all hazards; including both physical and cyber risks consistent with Presidential Policy Directive 21—Critical Infrastructure Security and Resilience and the National Security Presidential Memorandum on Improving Cybersecurity for Critical Infrastructure Control Systems. Each applicant selected for Federal funding under this NOFO must demonstrate, prior to the signing of the grant agreement, effort to consider and address physical and cybersecurity risks relevant to the transportation mode and type and scale of the project. Projects that have not appropriately considered and addressed physical and cybersecurity and resilience in their planning, design, and project oversight, as determined by the Department and the Department of Homeland Security, will be required to do so before receiving funds for construction.

Domestic Preference Requirements: As expressed in E.O. 14005, “Ensuring the Future Is Made in All of America by All of America's Workers” (86 FR 7475), the executive branch should maximize, consistent with law, the use of goods, products, and materials produced in, and services offered in, the United States. Funds made available under this NOFO are subject to the domestic preference requirements of the Buy America Act codified in 49 U.S.C. 50101 and Build America, Buy America requirements of the Bipartisan Infrastructure Law (BIL), enacted as the Infrastructure Investment and Jobs Act (IIJA). FAA expects all applicants to comply with those requirements without needing a waiver. However, if requesting a waiver, a recipient must be prepared to demonstrate how it will maximize the use of domestic goods, products, and materials in constructing its project.

Civil Rights and Title VI: As a condition of a grant award, applicants shall demonstrate that they will comply with the provisions of Title VI of the Civil Rights Act of 1964 (42 U.S.C. 2000d et seq.) and implementing regulations (49 CFR part 21), the Airport and Airway Improvement Act of 1982 (49 U.S.C. 47123), the Age Discrimination Act of 1975 (42 U.S.C. 6101 et seq.), Section 504 of the Rehabilitation Act of 1973 (29 U.S.C. 794 et seq.), the Americans with Disabilities Act of 1990 (42 U.S.C. 12101, et seq.), U.S. Department of Transportation and Federal Aviation Administration (FAA) Assurances, and other relevant civil rights statutes, regulations, or authorities. This may include, as applicable, providing a current Title VI Program Plan and a Community Participation Plan (alternatively may be called a Public Participation Plan) to the FAA for approval, in the format and according to the timeline required by the FAA, and other information about the communities that will be benefited and impacted by the project. A completed FAA Title VI Pre-Grant Award Checklist is also required for every grant application, unless excused by the FAA. Applicants shall affirmatively ensure that when carrying out any project supported by this grant that you will comply with all federal nondiscrimination and civil rights laws based on race, color, national origin (including limited English proficiency), sex (including sexual orientation and gender identity), creed, age, disability, genetic information, or environmental justice in consideration for federal financial assistance. Applicants who have not sufficiently demonstrated the conditions of compliance with civil rights requirements will be required to do so before receiving funds. The Department's and FAA's Office of Civil Rights may provide resources and technical assistance to recipients to ensure full and sustainable compliance with Federal civil rights requirements. Failure to comply with civil rights requirements will be considered a violation of the agreement or contract and be subject to any enforcement action as authorized by law.

Federal Contract Compliance: As a condition of grant award and consistent with E.O. 11246, Equal Employment Opportunity (30 FR 12319, and as amended), all Federally assisted contractors are required to make good faith efforts to meet the goals of 6.9 percent of construction project hours being performed by women, in addition to goals that vary based on geography for construction work hours and for work being performed by people of color. Under Section 503 of the Rehabilitation Act and its implementing regulations, affirmative action obligations for certain contractors include an aspirational employment goal of 7 percent workers with disabilities.

The U.S. Department of Labor's Office of Federal Contract Compliance Programs (OFCCP) is charged with enforcing Executive Order 11246, Section 503 of the Rehabilitation Act of 1973, and the Vietnam Era Veterans' Readjustment Assistance Act of 1974. OFCCP has a Mega Construction Project Program through which it engages with project sponsors as early as the design phase to help promote compliance with non-discrimination and affirmative action obligations. OFCCP will identify projects that receive an award under this NOFO and are required to participate in OFCCP's Mega Construction Project Program from a wide range of Federally-assisted projects over which OFCCP has jurisdiction and that have a cost above $35 million that receive awards under this funding opportunity to partner with OFCCP, if selected by OFCCP, as a condition of the DOT award.

Performance and Program Evaluation: As a condition of grant award, grant recipients may be required to participate in an evaluation undertaken by DOT or another agency or partner. The evaluation may take different forms, such as an implementation assessment across grant recipients, an impact and/or outcomes analysis of all or selected sites within or across grant recipients, or a benefit/cost analysis or assessment of return on investment. DOT may require applicants to collect data elements to aid the evaluation and/or use information available through other reporting. As a part of the evaluation, as a condition of award, grant recipients must agree to: (1) make records available to the evaluation contractor or DOT staff; (2) provide access to program records and any other relevant documents to calculate costs and benefits; (3) in the case of an impact analysis, facilitate the access to relevant information as requested; and (4) follow evaluation procedures as specified by the evaluation contractor or DOT staff. Requested program records or information will be consistent with record requirements outlined in 2 CFR 200.334 through 200.338 and the grant agreement.

Recipients and subrecipients are also encouraged to incorporate program evaluation, including associated data collection activities from the outset of their program design and implementation to meaningfully document and measure their progress towards meeting an agency priority goal(s). Title I of the Foundations for Evidence-Based Policymaking Act of 2018 (Evidence Act), Pub. L. 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 17 311 Credible program evaluation activities are implemented with relevance and utility, rigor, independence and objectivity, transparency, and ethics (OMB Circular A-11, Part 6 Section 290).

F.3 Reporting

Grant recipients are subject to financial reporting per 2 CFR 200.328 and performance reporting per 2 CFR 200.329. Under FY 2023 Supplemental Discretionary Grants, the grant recipient is required to comply with all Federal financial reporting requirements and payment requirements, including the submittal of timely and accurate reports. Financial and performance reporting requirements are available in FAA October 2020 Airport Improvement Program (AIP) Grant Payment and Sponsor Financial Reporting Policy, which is available at https://www.faa.gov/sites/faa.gov/files/airports/aip/grant_payments/aip-grant-payment-policy.pdf.

The grant recipient must comply with annual audit reporting requirements. The grant recipient and sub-recipients, if applicable, must comply with 2 CFR part 200, subpart F, Audit Reporting Requirements. The grant recipient must comply with any requirements outlined in 2 CFR part 180, OMB Guidelines to Agencies on Governmentwide Debarment and Suspension (Nonprocurement).

G. Federal Awarding Agency Contacts

G.1 General Inquiries

For general inquiries, please contact: David F. Cushing, Manager, Airports Financial Assistance Division, APP-500, at 202-267-8827.

For further information concerning this NOFO, please contact your local Regional Office or District Office. Contact information is available at https://www.faa.gov/airports/regions/.

G.2 Technical Inquiries

For technical questions regarding specific operational resiliency, sustainable aviation fuel and energy and environmental sustainability programs described in this NOFO, please contact Matthew Klein, matthew.klein@faa.gov, 202-267-4086.

To ensure applicants receive accurate information about eligibility for the program, the applicant is encouraged to contact FAA directly, rather than through intermediaries or third parties with questions.

Issued in Washington, DC on March 26, 2024.
David F. Cushing,
Manager, Airports Financial Assistance Division.

[FR Doc. 2024-06778 Filed 3-29-24; 8:45 am]

BILLING CODE 4910-13-P